DEPARTMENT OF LABOR

Employment and Training Administration

[TA-W-75,040]

Jason Incorporated, Janesville Accoustics Division, Subsidiary of Jason Partners Holdings LLC, Including On-Site Leased Workers From Accurate Quality Inspection, Imperial Design and Gill Staffing, Grand Rapids, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on April 26, 2011, applicable to workers of Jason Incorporated, Janesville Acoustics Division, Subsidiary of Jason Partners Holdings LLC, including on-site leased workers from Accurate Quality Inspection, Grand Rapids, Michigan. The workers produce door inserts for the automotive industry and seat backs for the automotive and furniture industries. The Department's Notice will soon be published in the Federal Register.

At the request of a petitioner, the Department reviewed the certification for workers of the subject firm. The company reports that workers leased from Imperial Design and Gill Staffing were employed on-site at the subject firm. The Department has determined that these workers were sufficiently under the control of Jason Incorporated, Janesville Acoustics Division, Subsidiary of Jason Partners Holdings LLC to be considered leased workers.

Based on these findings, the Department is amending this certification to include workers leased from Imperial Design and Gill Staffing working on-site at the Grand Rapids, Michigan location of Jason Incorporated, Janesville Acoustics Division, Subsidiary of Jason Partners Holdings LLC.

The amended notice applicable to TA-W-75,040 is hereby issued as follows:

“All workers of Jason Incorporated, Janesville Acoustics Division, Subsidiary of Jason Partners Holdings LLC, including on-site leased workers from Accurate Quality Inspections, Imperial Design and Gill Staffing, Grand Rapids, Michigan, who became totally or partially separated from employment on or after December 20, 2009, through April 26, 2013, and all workers in the group threatened with total or partial separation from employment on the date of certification through two years from the date of certification, are eligible to apply for adjustment assistance under Chapter 2 of Title II of the Trade Act of 1974, as amended.”

Signed in Washington, DC, this 17th day of May, 2011
Del Min Amy Chen,
Certifying Officer, Office of Trade Adjustment Assistance.

[FR Doc. 2011-13143 Filed 5-26-11; 8:45 am]

BILLING CODE 4510-FN-P